DEPARTMENT OF HEALTH AND HUMAN SERVICES

Administration for Children and Families

Office of Family Assistance; Statement of Organization, Functions, and Delegations of Authority

This notice amends Part K of the Statement of Organization, Functions, and Delegations of Authority of the Department of Health and Human Services (DHHS), Administration of Children and Families (ACF) as follows: Chapter KH, The Office of Family Assistance (OFA) (61 FR 35770), as last amended, July 8, 1996. The Personal Responsibility and Work Opportunity Reconciliation Act (PRWORA) of 1996 authorized the implementation of the Temporary Assistance for Needy Families Program (TANF) which replaces the national welfare program known as Aid to Families with Dependent Children (AFDC) and related programs known as the Job Opportunity and Basic Skills Training (JOBS) program and the Emergency Assistance (EA) program that were administered by OFA. OFA handles policy issues related to the closeout of the AFDC, JOBS and EA programs. Other outstanding closeout issues are handled in consultation with other responsible ACF components. This Notice reflects the OFA's new structure, which refocuses efforts to meet performance goals of economic independence for families and healthy development of children. Specifically, delete Chapter KH in its entirety, and replace it with the following:

KH.00 Mission. The Office of Family Assistance (OFA) advises the Secretary, through the Assistant Secretary for Children and Families, on matters relating to the Temporary Assistance for Needy Families (TANF) Program, under the Personal Responsibility and Work Opportunity Reconciliation Act of 1996 (PRWORA) (Pub. L. 104-193). This program promotes temporary assistance and economic self-sufficiency for children and families. The Office provides leadership, direction and technical guidance, with ACF Regional Offices, to the States and Territories on the Administration of the Temporary Assistance for Needy Families Block Grant and Aid to the Aged, Blind and Disabled in Guam, Puerto Rico and the Virgin Islands. The Office refocuses efforts to increase economic independence and productivity for families. It provides direction and guidance in the collection and dissemination of performance and other valuable data for these programs. The Office provides technical assistance to States, Territories, localities and community groups, and assesses State and Territorial performance in administering these programs; reviews State planning for administrative and operational improvements; and recommends actions to improve effectiveness.

Delete KH.10 Organization in its entirety and replace with the following:

KH.10 Organization. The Office of Family Assistance is headed by a Director, who reports to the Assistant Secretary for Children and Families. The office is organized as follows:

Office of the Director (KHA)

Division of Policy and Program Development (KHB)

Division of Technical Assistance and Training (KHC)

Division of TANF Information Network (KHD)

KH.20 Functions. A. The Office of the Director is directly responsible to the Assistant Secretary for Children and Families for carrying out OFA's mission and providing direction, leadership, guidance and general supervision to the principal components of OFA. The Office is headed by the Director for Family Assistance. The Deputy Director assists the Director in carrying out the responsibilities of the office. The Executive Assistant assists the Director, Deputy Director and OFA Divisions in providing general oversight of management, administrative and personnel activities and in coordinating the formulation and execution of program and administrative budgets.

Delete KH.20 Functions, Paragraph B in its entirety and replace with the following:

B. The Division of Policy and Program Development provides direction and guidance in the nationwide administration of the Temporary Assistance for Needy Families programs, under the Personal Responsibility and Work Opportunity Reconciliation Act of 1996 (PRWORA) (Pub. L. 104-193) and Aid to the Aged, Blind, and Disabled in Guam, Puerto Rico and the Virgin Islands. The Division proposes legislation and implements national policy, develops regulations to implement new laws and prepares policy interpretations. The Division provides guidance and direction, analyzes, tracks and disseminates information on State progress in achieving work participation goals. The Division shapes and enables communication between Federal, State and local entities to coordinate cross-cutting welfare to work related policies. Collaborates with ACF and HHS components on Tribal TANF plans and other related programs such as: Head Start, Child Care programs and programs related to child welfare. Develops State plan procedures and evaluates State TANF plans with internal and external collaboration to identify critical issues contained in the plans and amendments; prepares congressional materials, testimonies and speeches. Collaborates with and provides program guidance to the Office of General Counsel (OGC) on litigation.

Delete KH.20 Functions, Paragraph C in its entirety and replace with the following:

C. The Division of Technical Assistance and Training provides technical assistance to States, Territories, localities and community groups; assists in the assessment of State and Territorial performance in administering the Temporary Assistance for Needy Families Block Grant and Aid to the Aged, Blind and Disabled in Guam, Puerto Rico and the Virgin Islands; and recommends and promotes improvements in outcomes for clients. The Division develops and implements strategies to assist grantees in implementing and improving their self-sufficiency programs. The Division of Technical Assistance and Training develops and delivers technical assistance focusing on innovative policy and program design approaches resulting in increased employment for needy families with children. The Division identifies best practices and shares information through conferences, publications, the Internet and resource networks. The Division ensures compliance with Federal laws and regulations and promotes cross-program policy initiatives to self-sufficiency and family-focused services. Collaborates with ACF and HHS components and other Federal agencies to deliver family-focused services. Promotes job development through agreements with other Federal agencies and corporations.

Add KH.20 Functions, Paragraph D. Add the following to establish Paragraph D.

D. The Division of TANF Information Network serves as a communication and information center that links other relevant national, Federal, State and local organizations and ideas via the ACF WELNET (an interactive welfare reform database) in providing guidance and direction to promising practices that promote work and success in the workplace for low-income individuals. It also collects and disseminates program, statistical and financial information about the Temporary Assistance for Needy Families Block Grant and Aid to the Aged, Blind and Disabled in Guam, Puerto Rico and the Virgin Islands and other TANF related welfare programs in the United States; and pertinent statutes, regulations, program instructions and guidance. The Division serves as a catalyst to connect other relevant national, Federal, State and local organizations to move effectively, coalesce/share resources and information relative to increasing the economic self-sufficiency of low-income families. The Division has responsibility for maintaining and updating several web sites in a manner that is designed to provide easy access; targeted, focused, useful information; customer-friendly organization and search capabilities. The Division compiles, analyzes, and evaluates program information for the TANF program making that information available to both internal and external parties. The Division responds to welfare reform inquiries from the public and private sector from both domestic and international entities. The Division also responds to Freedom of Information Act (FOIA) requests.

Dated: February 15, 2000.
Alvin C. Collins,
Director, Office of Family Assistance.

[FR Doc. 00-4248 Filed 2-22-00; 8:45 am]

BILLING CODE 4184-01-P